FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than June 9, 2008.

A. Federal Reserve Bank of Boston (Richard Walker, Community Affairs Officer) P.O. Box 55882, Boston, Massachusetts 02106-2204:

1. Hyde Park Bancorp, MHC, Hyde Park, Massachusetts, to become a bank holding company in connection with the reorganization of Hyde Park Savings Bank, Hyde Park, Massachusetts into a mutual bank holding company structure.

B. Federal Reserve Bank of Atlanta (Steve Foley, Vice President) 1000 Peachtree Street, N.E., Atlanta, Georgia 30309:

1. Hometown Banking Company, Inc., Ft. Pierce, Florida, to retain control of 31.26 percent of the voting shares of all classes of common stock of Hometown of Homestead Banking Company, and its subsidiary, 1st National Bank of South Florida, both of Homestead, Florida.

C. Federal Reserve Bank of San Francisco (Kenneth Binning, Director, Regional and Community Bank Group) 101 Market Street, San Francisco, California 94105-1579:

1. Carpenter Fund Manager GP, LLC, Carpenter Fund Management, LLC, Carpenter Community Bancfund-A, L.P., Carpenter Community Bancfund, L.P., and Carpenter Community Bancfund CA, L.P., all of Irvine, California, to become bank holding companies by acquiring 24.3 percent of the voting shares of Mission Community Bancorp, and thereby acquire its subsidiary, Mission Community Bank, both of San Luis Obispo, California.

Board of Governors of the Federal Reserve System, May 9, 2008.
Robert deV. Frierson,
Deputy Secretary of the Board.

[FR Doc. E8-10737 Filed 5-13-08; 8:45 am]

BILLING CODE 6210-01-S